DEPARTMENT OF ENERGY

Federal Energy Regulatory Commission

Combined Notice of Filings #1

Take notice that the Commission received the following electric rate filings:

Docket Numbers: ER10-2507-001; ER98-2157-022.

Applicants: Westar Energy, Inc., Kansas Gas and Electric Company.

Description: Notice of Change in Status of Westar Energy, Inc., et al.

Filed Date: 5/29/12.

Accession Number: 20120529-5225.

Comments Due: 5 p.m. ET 6/19/12.

Docket Numbers: ER12-761-003.

Applicants: MATL LLP.

Description: Compliance Filing to be effective 9/30/2010.

Filed Date: 5/29/12.

Accession Number: 20120529-5198.

Comments Due: 5 p.m. ET 6/19/12.

Docket Numbers: ER12-1524-000.

Applicants: Kleantricity, Inc.

Description: Additional Information of Kleantricity, Inc.

Filed Date: 5/29/12.

Accession Number: 20120529-5171.

Comments Due: 5 p.m. ET 6/19/12.

Docket Numbers: ER12-1769-001.

Applicants: Viridian Energy NG, LLC.

Description: Market-Based Rate Tariff to be effective 7/1/2012.

Filed Date: 5/29/12.

Accession Number: 20120529-5138.

Comments Due: 5 p.m. ET 6/19/12.

Docket Numbers: ER12-1836-001.

Applicants: Louisville Gas and Electric Company.

Description: EKPC NITSA Errata to be effective 5/25/2012.

Filed Date: 5/29/12.

Accession Number: 20120529-5141.

Comments Due: 5 p.m. ET 6/19/12.

Docket Numbers: ER12-1860-000.

Applicants: PacifiCorp.

Description: UAMPS ARTSOA Revised to be effective 6/2/2012.

Filed Date: 5/29/12.

Accession Number: 20120529-5143.

Comments Due: 5 p.m. ET 6/19/12.

Docket Numbers: ER12-1861-000.

Applicants: PJM Interconnection, LLC.

Description: Original Service Agreement No. 3320; Queue No. X3-043 to be effective 5/2/2012.

Filed Date: 5/29/12.

Accession Number: 20120529-5158.

Comments Due: 5 p.m. ET 6/19/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 30, 2012.
Nathaniel J. Davis, Sr.,
Deputy Secretary.

[FR Doc. 2012-13706 Filed 6-5-12; 8:45 am]

BILLING CODE 6717-01-P